DEPARTMENT OF DEFENSE

Defense Acquisition Regulations System

48 CFR Parts 212, 227, 246, and 252

RIN 0750-AG62

Defense Federal Acquisition Regulation Supplement; Patents, Data, and Copyrights (DFARS Case 2010-D001)

AGENCY: Defense Acquisition Regulations System, Department of Defense.

ACTION: Proposed rule with request for comments; extension of comment period.

SUMMARY: DoD is proposing to amend the Defense Federal Acquisition Regulation Supplement (DFARS) to update text on patents, data, and copyrights. The comment period is being extended an additional 30 days to provide additional time for interested parties to review the proposed DFARS changes.

DATES: Comments on the proposed rule should be submitted to the address shown below on or before December 27, 2010, to be considered in the formulation of the final rule.

ADDRESSES: You may submit comments, identified by DFARS Case 2010-D001, using any of the following methods:

○ Regulations.gov http://www.regulations.gov.

Submit comments via the Federal eRulemaking portal by inputting “DFARS Case 2010-D001” under the heading “Enter keyword or ID” and selecting “Search.” Select the link “Submit a Comment” that corresponds with “DFARS Case 2010-D001.” Follow the instructions provided at the “Submit a Comment” screen. Please include your name, company name (if any), and “DFARS Case 2010-D001” on your attached document.

○ E-mail: dfars@osd.mil. Include DFARS Case 2010-D001 in the subject line of the message.

○ Fax: 703-602-0350.

○ Mail: Defense Acquisition Regulations System, Attn: Ms. Amy Williams, OUSD (AT&L) DPAP (DARS), Room 3B855, 3060 Defense Pentagon, Washington, DC 20301-3060.

Comments received generally will be posted without change to http://www.regulations.gov, including any personal information provided. To confirm receipt of your comment(s), please check http://www.regulations.gov approximately two to three days after submission to verify posting (except allow 30 days for posting of comments submitted by mail).

FOR FURTHER INFORMATION CONTACT: Ms. Amy Williams, 703-602-0328.

SUPPLEMENTARY INFORMATION:

I. Background

DoD published a proposed rule in the Federal Register on September 27, 2010 (75 FR 59412), with a request for comments by November 26, 2010. DoD is extending the comment period for 30 additional days to provide an additional time for interested parties to review the proposed DFARS changes.

Ynette R. Shelkin,
Editor, Defense Acquisition Regulations System.

[FR Doc. 2010-29806 Filed 11-24-10; 8:45 am]

BILLING CODE 5001-08-P